DEPARTMENT OF DEFENSE

Department of the Air Force

Notice of Intent To Prepare an Environmental Impact Statement on the Proposal To Improve F-22 Operational Efficiency at Joint Base Elmendorf-Richardson, Alaska

AGENCY: United States Air Force, Pacific Air Forces.

ACTION: Notice of intent.

SUMMARY: Pursuant to the National Environmental Policy Act (NEPA) of 1969, as amended (42 U.S.C. 4321, et seq.), the Council on Environmental Quality (CEQ) Regulations for Implementing the Procedural Provisions of NEPA (40 CFR parts 1500-1508), and Air Force policy and procedures (32 CFR part 989), the Air Force is issuing this notice to advise the public of the intent to prepare an Environmental Impact Statement (EIS) for proposed F-22 operational efficiency improvements at Joint Base Elmendorf-Richardson (JBER).

The proposed action is to improve F-22 operational efficiency; there is no proposed change in the number of aircraft at JBER nor in the ongoing military training in existing Alaska training airspace. Six alternatives that have been initially identified include changes in runway use and/or airfield infrastructure and maintenance. The EIS will address potential impacts resulting from implementation of the alternatives. The No Action Alternative is the runway use conditions from the F-22 Plus-Up Environmental Assessment (EA) and Finding of No Significant Impacts (FONSI) published, June 2011.

Scoping: In order to define the full range of issues to be evaluated in the EIS, the Air Force will determine the scope of the analysis by soliciting comments from interested local, state and federal elected officials and agencies, as well as interested members of the public. This NOI also serves to provide early notice of compliance with Executive Order (EO) 11990, “Protection of Wetlands” and EO 11988, “Floodplain Management.” State and federal regulatory agencies with special expertise in wetlands and floodplains have been contacted to request comment. The Air Force plans to use the NEPA scoping process to also fulfill the requirements of the NHPA Section 106 implementing regulations by seeking public input on historic preservation issues and concerns.

The scoping meeting will be held Wednesday, October 14, 2015, from 6:00 p.m. to 8:30 p.m. ADT, at Tyson Elementary School, 2801 Richmond Avenue, Anchorage, Alaska.

Public scoping comments will be accepted in writing at the scoping meetings. Additional scoping comments will be accepted at any time during the EIS process. However, in order to ensure the Air Force has sufficient time to consider public input, scoping comments should arrive at the address below by October 27, 2015.

FOR FURTHER INFORMATION CONTACT: JBER Public Affairs, Bldg. 10480 Sijan Ave., Suite 123, JBER, AK 99506 telephone: 907-552-8151 or email: jber.pa.3@us.af.mil.

Henry Williams,
Acting Air Force Federal Register Liaison Officer.

[FR Doc. 2015-23988 Filed 9-21-15; 8:45 am]

BILLING CODE 5001-10-P